DEPARTMENT OF TRANSPORTATION

Federal Aviation Administration

14 CFR Parts 91, 121, 135, and 145

[Docket No. FAA-1999-5836; Amendment Nos. 91-269, 121-286, 135-82, 145-27, and SFAR 36-7]

RIN 2120-AC38

Repair Stations

AGENCY: Federal Aviation Administration (FAA), DOT.

ACTION: Final rule; reopening of comment period.

SUMMARY: This action reopens the comment period for a final rule that was published on August 6, 2001. In that document, the FAA updated and revised the regulations for aeronautical repair stations. The FAA also requested comments on the new recordkeeping requirements and its decisions to remove appendix A. This reopening of the comment period is a result of several requests to allow additional time to comment on the paperwork burden associated with the final rule.

DATES: Comments on the paperwork burden associated with the final rule must be received on or before January 29, 2002.

ADDRESSES: Comments on this document should be mailed or delivered, in duplicate, to: U.S. Department of Transportation Dockets, Docket No. FAA-1999-5836, 400 Seventh Street, SW., Room Plaza 401, Washington, DC 20590. Comments may be filed and examined in Room Plaza 401 between 10 a.m. and 5 p.m. weekdays, except Federal holidays. Comments also may be sent electronically to the Dockets Management System (DMS) at the following Internet address: http://dms.dot.gov at any time. Commenters who wish to file comments electronically, should follow the instructions on the DMS web site.

FOR FURTHER INFORMATION CONTACT: Diana L. Frohn, Aircraft Maintenance Division, Air Carrier Maintenance Branch, AFS-330, Federal Aviation Administration, 800 Independence Avenue SW., Washington, DC 20591; telephone (202) 493-4241; facsimile (202) 267-5115.

SUPPLEMENTARY INFORMATION:

Comments Invited

An opportunity for comment on the information collection requirements of the repair station final rule was not provided during the notice of proposed rulemaking stage. Interested persons are invited to submit written data, views, or arguments regarding the information collection requirements as they may desire. Substantive comments should be accompanied by cost estimates. Comments must identify the regulatory docket or notice number and be submitted in duplicate to the DOT Rules Docket address specified above.

All comments received, as well as a report summarizing each substantive public contact with FAA personnel concerning this rulemaking, will be filed in the docket. The docket is available for public inspection before and after the comment closing date.

All comments received on or before the closing date will be considered by the FAA before the effective date of the final rule. Comments filed late will be considered as far as possible without incurring expense or delay.

Commenters wishing the FAA to acknowledge receipt of their comments submitted in response to this document must include a pre-addressed, stamped postcard with those comments on which the following statement is made: “Comments to Docket No. FAA-1999-5836.” The postcard will date stamped and mailed to the commenter.

Background

On July 30, 2001, the Federal Aviation Administration (FAA) issued Repair Stations; Final Rule with request for comments and direct final rule with request for comments (66 FR 41088, August 6, 2001). Comments to that document were to be received on or before October 5, 2001.

Several organizations have requested an extension of the comment period. By letter dated September 28, 2001, the Aeronautical Repair Station Association, Aircraft Electronics Association, Helicopter Association International, National Air Transportation Association, and National Air Carrier Association jointly requested that FAA extend the comment period until December 31, 2001. The petitioners cited the national security events that occurred on September 11, 2001, to support their requests for an extension. The petitioners indicated that the recent events devastated its member companies. In some cases, the personnel needed to collect, compile, evaluate, and respond to the request for cost estimates have been laid off. In other cases these personnel have been assigned to other responsibilities, making it difficult to respond to the request for comments by the October 5, 2001, deadline. Goodrich Aerostructures Group, also requested that FAA extend the comment period.

The FAA acknowledges that the tragic events of September 11 have required the nation's attention and concurs with the petitioner's request to extend the comment period on the information collection requirements of the final rule. Therefore, the FAA believes as additional 60 days is sufficient to allow interest parties to provide comment.

Extension of Comment Period

In accordance with § 11.47 of Title 14, Code of Federal Regulations, the FAA has reviewed the requests for extension of the comment period to the repair stations final rule. These petitioners have shown a substantive interest in the final rule and good cause for the extension. The FAA also has determined that an extension of the comment period is consistent with the public interest, and that good cause exists for taking this action.

Accordingly, the comment period for Repair Stations; Final Rule request for comments on the paperwork burden is extended until January 29, 2002.

Issued in Washington, DC, November 19, 2001.
Louis C. Cusimano,
Acting Director, Flight Standards Service.

[FR Doc. 01-29479 Filed 11-29-01; 8:45 am]

BILLING CODE 4910-13-M